DEPARTMENT OF TRANSPORTATION

Federal Railroad Administration

[Docket No. FRA-2025-0063]

Proposed Agency Information Collection Activities; Comment Request

AGENCY: Federal Railroad Administration (FRA), Department of Transportation (DOT).

ACTION: Notice of information collection; request for comment.

SUMMARY: Under the Paperwork Reduction Act of 1995 (PRA) and its implementing regulations, this notice announces that FRA is forwarding the Information Collection Request (ICR) summarized below to the Office of Management and Budget (OMB) for review and comment. The ICR describes the information collection and its expected burden. On December 3, 2025, FRA published a notice providing a 60-day period for public comment on the ICR. FRA received two comments that are not related to the notice.

DATES: Interested persons are invited to submit comments on or before March 20, 2026.

ADDRESSES: Written comments and recommendations for the proposed ICR should be sent within 30 days of publication of this notice to https://www.reginfo.gov/public/do/PRAMain. Find the particular ICR by selecting “Currently under Review—Open for Public Comments” or by using the search function.

FOR FURTHER INFORMATION CONTACT: Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to issue two notices seeking public comment on information collection activities before OMB may approve paperwork packages. See 44 U.S.C. 3506, 3507; 5 CFR 1320.8 through 1320.12. On December 3, 2025, FRA published a 60-day notice in the Federal Register soliciting public comment on the ICR for which it is now seeking OMB approval. See 90 FR 55776. FRA received zero comments related to the proposed collection of information.

Before OMB decides whether to approve this proposed collection of information, it must provide 30 days' notice for public comment. Federal law requires OMB to approve or disapprove paperwork packages between 30 and 60 days after the 30-day notice is published. 44 U.S.C. 3507(b) and (c); 5 CFR 1320.12(d); see also 60 FR 44978, 44983 (Aug. 29, 1995). The 30-day notice informs the regulated community of their opportunity to file relevant comments and affords the agency adequate time to consider public comments before it renders a decision. 60 FR 44983 (Aug. 29, 1995). Therefore, respondents should submit their respective comments to OMB within 30 days of publication to best ensure having their full effect.

Comments are invited on the following ICR regarding: (1) whether the information collection activities are necessary for FRA to properly execute its functions, including whether the information will have practical utility; (2) the accuracy of FRA's estimates of the burden of the information collection activities, including the validity of the methodology and assumptions used to determine the estimates; (3) ways for FRA to enhance the quality, utility, and clarity of the information being collected; and (4) ways to minimize the burden of information collection activities on the public, including the use of automated collection techniques or other forms of information technology.

The summary below describes the ICR that FRA will submit for OMB clearance as the PRA requires:

Title: Bridge Safety Standards.

OMB Control Number: 2130-0586.¹

¹ The burden associated with § 214.105(c)(4), formerly covered under OMB Control No. 2130-0535, is now combined with the burden under OMB Control No. 2130-0586.

Abstract: Section 11405, “Bridge Inspection Reports,” of the Fixing America's Surface Transportation Act (FAST Act) (Pub. L. 114-94, Dec. 4, 2015) provides a means for a State or a political subdivision of a State to obtain a public version of a bridge inspection report generated by a railroad for a bridge located within its respective jurisdiction. While the FAST Act specifies that requests for such reports are to be filed with the Secretary of Transportation, the responsibility for fulfilling these requests is delegated to FRA.² FRA developed a form titled “Bridge Inspection Report Public Version Request Form” (FRA F 6180.167) to facilitate such requests by States and their political subdivisions.

² 49 CFR 1.89(a).

The collection of information set forth under 49 CFR part 237 normalized and established Federal requirements for railroad bridges.³ In particular, the collection of information is used by FRA to confirm that track owners adopt and implement bridge management programs (BMPs) to inspect, maintain, modify, and repair properly all bridges that carry trains for which they are responsible. Track owners must conduct annual inspections of railroad bridges, as well as special inspections that must be carried out if natural or accidental events cause conditions that warrant such inspections.

³ 75 FR 41281 (July 15, 2010).

Further, track owners must incorporate provisions for internal audits into their BMPs and must conduct internal audits of bridge inspection reports. FRA uses the information collected to ensure that track owners meet Federal standards for bridge safety and comply with all the requirements of part 237.

In addition, the collection of information set forth under 49 CFR 214.105(c) establishes standards and practices for bridge worker safety net systems. Safety nets and net installations must be drop-tested at the job site after initial installation and before being used as a fall-protection system, after major repairs, and at 6-month intervals if left at one site. If a drop-test is not feasible and is not performed, then the railroad or railroad contractor, or a designated certified person, must provide written certification the net complies with the safety standards under § 214.105. FRA and State inspectors use this information to enforce Federal regulations. The information maintained at the job site promotes safe bridge worker practices while providing flexibility at bridge work job sites.

Type of Request: Extension without change of a currently approved collection.

Affected Public: Businesses (railroads and track owners), States, the District of Columbia (DC), and political subdivisions of States.

Form(s): FRA F 6180.167.

Respondent Universe: 784 track owners, 50 States and DC, and 200 political subdivisions of States.

Frequency of Submission: On occasion and annual.

Total Estimated Annual Responses: 200,480.

Total Estimated Annual Burden: 34,616 hours.

Total Estimated Annual Burden Hour Dollar Cost Equivalent: $3,085,383.04.

FRA informs all interested parties that it may not conduct or sponsor, and a respondent is not required to respond to, a collection of information that does not display a currently valid OMB control number.

Authority: 44 U.S.C. 3501-3520.

Christopher S. Van Nostrand,
Deputy Chief Counsel.

[FR Doc. 2026-03146 Filed 2-17-26; 8:45 am]

BILLING CODE 4910-06-P